EXPORT-IMPORT BANK OF THE U.S.

[Public Notice 119]

Agency Information Collection Activities: Final Collection; Comment Request

AGENCY: Export-Import Bank of the U.S.

ACTION: Submission for OMB review and comments request.

Form Title: Payment Default Report (EIB 09-01).

SUMMARY: The Export-Import Bank of the United States (Ex-Im Bank), as a part of its continuing effort to reduce paperwork and respondent burden, invites the general public and other Federal Agencies to comment on the proposed information collection, as required by the Paperwork Reduction Act of 1995.

This collection allows insured/guaranteed parties and insurance brokers to report overdue payments from the borrower and/or guarantor. Ex-Im Bank customers will submit this form electronically through Ex-Im Online, replacing paper reporting. Ex-Im Bank has simplified reporting of payment defaults in this form by including checkboxes and providing for many fields to be self-populated. Ex-Im Bank provides insurance, loads, and guarantees for the financing of exports of goods and services.

DATES: Comments should be received on or before July 22, 2009 to be assured of consideration.

ADDRESSES: Direct all comments to Office of Management and Budget, Office of Information and Regulatory Affairs, 725 17th Street, NW., Washington, DC 20038.

SUPPLEMENTARY INFORMATION: Titles and Form Number: EIB 09-01 Payment Default Report.

OMB Number: None.

Type of Review: Regular.

Need and Use: The information requested enables insured/guaranteed parties and insurance brokers to report overdue payments from the borrower and/or guarantor.

Affected Public: Insured/guaranteed parties and brokers.

Annual Number of Respondents: 200.

Estimated Time per Respondent: 15 minutes.

Government Annual Burden Hours: 16.67.

Sharon A. Whitt,
Agency Clearance Officer.

[FR Doc. E9-14529 Filed 6-19-09; 8:45 am]

BILLING CODE 6690-01-M